DEPARTMENT OF LABOR

Employment and Training Administration

[TA-W-53,369]

Fishing Vessel (F/V) Darlin Michele, Hoonah, AK; Notice of Termination of Investigation

Pursuant to section 221 of the Trade Act of 1974, as amended, an investigation was initiated on November 29, 2003, in response to a petition filed by a company official on behalf of workers of F/V Darlin Michele, Hoonah, Alaska.

The petitioner has requested that the petition be withdrawn. Consequently, the investigation has been terminated.

Signed at Washington, DC, this 8th day of December, 2003.
Linda G. Poole,
Certifying Officer, Division of Trade Adjustment Assistance.

[FR Doc. 03-31456 Filed 12-19-03; 8:45 am]

BILLING CODE 4510-30-P